DEPARTMENT OF STATE

[Delegation of Authority No. 307]

Delegation by the Director of U.S. Foreign Assistance to the Deputy Director of U.S. Foreign Assistance

By virtue of the authority vested in the Secretary of State, including Section 1 of the State Department Basic Authorities Act, as amended (22 U.S.C. 2651a), and delegated to me by the Secretary of State in Delegation of Authority 293-1, I hereby delegate the Deputy Director of U.S. Foreign Assistance, to the extent authorized by law, all authorities and functions vested in the Director of Foreign Assistance in Delegation of Authority 293-1, as well as all authorities and functions vested in that office in future iterations of that delegation.

Notwithstanding this delegation of authority, I may exercise any function or authority delegated by this Delegation.

This delegation of authority shall be published in the Federal Register.

Dated: December 8, 2007.
Henrietta H. Fore,
Director of Foreign Assistance, Department of State.

[FR Doc. E7-24770 Filed 12-19-07; 8:45 am]

BILLING CODE 4710-02-P